DEPARTMENT OF HOMELAND SECURITY

Coast Guard

33 CFR Part 100

[CGD05-05-020]

Special Local Regulations for Marine Events; Piankatank River, Gloucester County, VA

AGENCY: Coast Guard, DHS.

ACTION: Notice of meeting.

SUMMARY: The Coast Guard will hold a public meeting to provide a forum for citizens to provide oral comments relating to the “2005 Piankatank River Race”, a marine event proposed to be held over the waters of the Piankatank River in Gloucester County, Virginia on July 23, 2005. The meeting will be open to the public.

DATES: This public meeting will be on Wednesday, June 29, 2005, from 10 a.m. to 2 p.m. The meeting may close early if all business is finished. Written material and requests to make oral presentations should reach the Coast Guard on or before June 24, 2005.

ADDRESSES: The Coast Guard public meeting will be held at the Gloucester County Library, 6920 Main Street, Gloucester, VA, 23061. Send written material and requests to make oral presentations to Dennis Sens, Commander (oax), U.S. Coast Guard Fifth District, 431 Crawford Street, Portsmouth, VA 23321.

FOR FURTHER INFORMATION CONTACT: Dennis Sens, Recreational Boating Safety Specialist, Fifth Coast Guard District, telephone 757-398-6204, Fax 757-398-6203.

SUPPLEMENTARY INFORMATION: This notice of meeting is in response to the notice of proposed rulemaking, (NPRM), published in the Federal Register on March 29, 2005, (Volume 70, pages 15788-15790). The purpose of this public meeting is to provide an opportunity for citizens to provide oral or written comments regarding a proposed marine event on the Piankatank River. The East Coast Boat Racing Club of New Jersey proposes to sponsor the “2005 Piankatank River Race” on July 23, 2005. The event would consist of approximately 20 New Jersey Speed Garveys and Jersey Speed Skiffs conducting high-speed competitive races along an oval racecourse in close proximity to the Thousand Trails Campground, over the waters of the Piankatank River, Gloucester, Virginia.

Agenda of Meeting

The agenda includes the following:

(1) Introduction of panel members.

(2) Overview of meeting format.

(3) Background on proposed marine event.

(4) Statements from citizens. Statements may be delivered in written form at the public meeting and made part of the docket or delivered orally not to exceed 10 minutes.

Procedural

The meeting is open to the public. Please note that the meeting may close early if all business is finished. Members of the public may make oral presentations during the meeting. If you would like to make an oral presentation at the meeting, please notify the meeting coordinator at the address listed under ADDRESSES by June 24, 2005.

Information on Services for Individuals With Disabilities

For information on facilities or services for individuals with disabilities or to request special assistance at the meeting, contact the meeting coordinator as soon as possible.

Dated: May 6, 2005.
Lawrence J. Bowling,
Captain, U.S. Coast Guard, Commander, Fifth Coast Guard District Acting.

[FR Doc. 05-10363 Filed 5-26-05; 8:45 am]

BILLING CODE 4910-15-P